DEPARTMENT OF ENERGY

Federal Energy Regulatory Commission

[Docket No. CP98-151-004]

Columbia Gas Transmission Corporation; Notice of Petition To Amend

May 9, 2006.

Take notice that on May 3, 2006, Columbia Gas Transmission Corporation (Columbia), 1700 MacCorkle Avenue, SE., Charleston, West Virginia 25314, filed in Docket No. CP98-151-004, an amendment to its pending petition to amend filed on August 1, 2005, in Docket No. CP98-151-003, pursuant to section 7 of the Natural Gas Act (NGA), to amend the facilities previously approved for abandonment by conveyance to Millennium Pipeline Company, L.L.C. (Millennium) and the lease of capacity to Millennium. Specifically, Columbia states that it will now retain ownership of Lines U, K, 1278, 1842 and will lease to Millennium capacity in the facilities. In addition, Columbia states that it will retain ownership in the Milford Compressor Station and Port Jervis Measuring Station, all as more fully set forth in the petition which is on file with the Commission and open to public inspection.

This petition is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding this petition should be directed to counsel for Columbia, Fredric J. George, Columbia Gas Transmission Corporation, P.O. Box 1273, Charleston, West Virginia 25325-1273; at (304) 357-2359 (phone) or (304) 357-3206 (fax).

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See, 18 CFR 385.2001(a)(1)(iii) and the instructions on the Commission's Web site (http://www.ferc.gov) under the “e-Filing” link.

Comment Date: May 30, 2006.

Magalie R. Salas,
Secretary.

[FR Doc. E6-7372 Filed 5-15-06; 8:45 am]

BILLING CODE 6717-01-P